SMALL BUSINESS ADMINISTRATION

Data Collection Available for Public Comments and Recommendations

ACTION: Notice and request for comments.

SUMMARY: In accordance with the Paperwork Reduction Act of 1995, this notice announces the Small Business Administration's intentions to request approval on a new, and/or currently approved information collection.

DATES: Submit comments on or before December 12, 2000.

ADDRESSES: Send all comments regarding whether this information collection is necessary for the proper performance of the function of the agency, whether the burden estimate is accurate, and if there are ways to minimize the estimated burden and enhance the quality of the collection, to Delorice P. Ford, Associate Administrator/BD, Office of Business Development, Office of Government Contracting and Business Development, Small Business Administration, 409 3rd Street, SW., Suite 8000.

FOR FURTHER INFORMATION CONTACT: Delorice P. Ford, Associate Administrator/BD, 202-205-5852 or Curtis B. Rich, Management Analyst, (202) 205-7030.

SUPPLEMENTARY INFORMATION: Title: Small Disadvantaged Business(SDB) Recertification Application.

Form No.: 2179

Description of Respondents: Small Disadvantaged Business (SDB) eligible companies.

Annual Responses: 1,785.

Annual Burden: 3,000.

Curtis B. Rich,
Acting Chief, Administrative Information Branch.

[FR Doc. 00-26276 Filed 10-12-00; 8:45 am]

BILLING CODE 8025-01-U